DEPARTMENT OF AGRICULTURE

Forest Service

Gray Mountain Coal Lease Proposal

AGENCY: Forest Service, USDA; Cooperating Agencies: Bureau of Land Management, (BLM) and the Office of Surface Mining (OSM).

ACTION: Public hearing on the Gray Mountain Coal Lease Proposal.

SUMMARY: As the lead federal agency, in cooperation with the BLM, the Daniel Boone National Forest hereby announces that the BLM will conduct a public hearing to accept comments on the Gray Mountain Coal Lease Land Use Analysis and Draft Environmental Impact Statement (LUA and DEIS). This hearing is being held in accordance with regulations found at 43 CFR 3425.4. This hearing is being conducted to receive public input on a proposal to offer federal coal in a competitive lease sale as addressed in the LUA and DEIS. The 1,210.44 acres proposed for leasing are located within the Daniel Boone National Forest in Leslie County, Kentucky.

DATE COMMENTS ARE DUE: The public hearing is being held on November 24, 2003 at 2 p.m. The comment period closes on November 24, 2003.

FOR FURTHER INFORMATION CONTACT: For information related to this hearing, contact Sid Vogelpohl, Assistant Field Manager, Mineral Resources, BLM, Eastern States, Jackson Field Office. He can be reached at (601) 977-5402, or by mail at 411 Briarwood Dr., Suite 404, Jackson, MS 39206.

For information related to the LUA and DEIS, please contact Corey Miller, the interdisciplinary team leader for this proposed action, at the Daniel Boone National Forest, 1700 Bypass Road, Winchester, KY 40391, or by telephone at (859) 745-3149.

SUPPLEMENTARY INFORMATION: This public hearing is scheduled for November 24, 2003. The hearing will be held at 2 p.m. at the Leslie County Extension Services Office, 22045 Main Street, in Hyden, Kentucky.

The U.S. Forest Service is the lead agency preparing the LUA and DEIS to analyze the environmental impacts of leasing three federal coal tracts. The 1,210.44 acres proposed for leasing lie in three separate tracts within lands administered by the Redbird Ranger District of the Daniel Boone National Forest. The three USFS tracts are located on and around Gray Mountain, between the Beech Fork and Greasy Creek drainages in southern Leslie County. The lease applicant proposes to mine the federal coal by underground methods from an existing mining operation.

The Notice of Intent to prepare this LUA and DEIS was announced in the Federal Register on February 13, 2003 (Volume 68, Number 30, pages 7338-7340). By Federal Register Notice of September 18, 2003 (Volume 68, Number 181, pages 54706-54707), process changes were announced along with the name of the project being changed from the “Beech Fork Coal Lease Proposal” to “Gray Mountain Coal Lease Proposal”.

The U.S. Forest Service provided copies of the LUA and DEIS to the public and agencies on about September 19, 2003. The U.S. Environmental Protection Agency announced the availability of the LUA and DEIS in the Federal Register dated October 10, 2003 (Volume 68, Number 197, page 58668). This hearing provides another opportunity for the public to comment on the project.

Dated: November 17, 2003.
Gary R. Coleman,
Acting Forest Supervisor, Daniel Boone National Forest.

[FR Doc. 03-29100 Filed 11-20-03; 8:45 am]

BILLING CODE 3410-11-M